Title 3—

The President

Proclamation 7769 of April 8, 2004

National Donate Life Month, 2004

By the President of the United States of America

A Proclamation

This year marks the 50th anniversary of the first successful organ transplant in the United States. Since that time, organ and tissue transplantation have significantly increased, and last year, more than 25,000 Americans received an organ transplant. National Donate Life Month provides the opportunity to raise awareness about organ and tissue donation and the importance of sharing your decision to donate with your family.

While medical advances are enabling Americans to receive lifesaving transplants, there are not enough donors to help everyone in need. Last year, close to 6,000 Americans died while waiting for organ transplants. Currently, more than 84,000 of our citizens are on the waiting list for a donation, and approximately 30,000 people will be diagnosed with diseases that a bone marrow transplant could cure.

My Administration is committed to increasing organ and tissue donation. I have included nearly $25 million in my 2005 budget proposal for organ procurement and transplantation efforts at the Department of Health and Human Services and nearly $23 million to support a bone marrow donor registry. In addition, we continue to increase donations through the “Gift of Life Donation Initiative.” This campaign encourages businesses and organizations to make information on donation available to their employees, volunteers, and members, provides donor cards for individuals to carry with them, promotes the development of donor registries, and encourages States to educate teenagers on donation through their drivers' education classes. To make organ donation more viable, I recently signed into law the Organ Donation and Recovery Improvement Act. The Act authorizes the awarding of grants for travel reimbursement to potential donors and helps to increase public awareness and education about organ donation programs.

After a person decides to be a donor, one of the most important things he or she needs to do is talk with family members about this decision. Many opportunities are missed each year because families do not know what their loved ones wanted. During National Donate Life Month, we honor our Nation's organ and tissue donors and their families. Their decision to share the gift of life through America's donor programs serves as a positive example for all our citizens.

NOW, THEREFORE, I, GEORGE W. BUSH, President of the United States of America, by virtue of the authority vested in me by the Constitution and laws of the United States, do hereby proclaim April 2004 as National Donate Life Month. I call upon our citizens to sign an organ and tissue donor card and to be screened for bone marrow donation. I also urge health care professionals, volunteers, educators, government agencies, and private organizations to help raise awareness of the important need for organ and tissue donors in communities throughout our Nation.

IN WITNESS WHEREOF, I have hereunto set my hand this eighth day of April, in the year of our Lord two thousand four, and of the Independence of the United States of America the two hundred and twenty-eighth.

B

[FR Doc. 04-8417

Filed 4-9-04; 9:19 am]

Billing code 3195-01-P